DEPARTMENT OF THE INTERIOR

Bureau of Land Management

[BLM_HQ_FRN_MO4500183156]

Notice of Lease Sale and Notice of Availability of the Detailed Statement of Sale for the Coastal Plain 2025 Oil and Gas Lease Sale

AGENCY: Bureau of Land Management, Interior.

ACTION: Notice.

SUMMARY: The Bureau of Land Management's (BLM) Alaska State Office will hold an oil and gas lease sale bid opening for twelve tracts in the Coastal Plain of the Arctic National Wildlife Refuge.

DATES: The oil and gas lease sale bid opening will be at 10 a.m. (AKST) on January 9, 2025. The BLM must receive all sealed bids by 4 p.m. (AKST), January 6th, 2025. The Detailed Statement of Sale for the Coastal Plain Oil and Gas Lease Sale 2025 will be available to the public on BLM's website on the date of this Notice's publication in the Federal Register.

ADDRESSES: Sealed bids must be received at the BLM-Alaska State Office, ATTN: Wayne Svejnoha (AK932); 222 West 7th Avenue, #13; Anchorage, AK 99513-7504. The Detailed Statement of Sale is available from the BLM Alaska website at https://www.blm.gov/alaska.

FOR FURTHER INFORMATION CONTACT: Wayne Svejnoha, Supervisory Minerals and Energy Specialist, phone 907-271-4407 or email, wsvejnoh@blm.gov. Individuals in the United States who are deaf, deafblind, hard of hearing, or have a speech disability may dial 711 (TTY, TDD, or TeleBraille) to access telecommunications relay services for contacting Mr. Svejnoha. Individuals outside the United States should use the relay services within their country to make international calls to the point-of-contact in the United States.

SUPPLEMENTARY INFORMATION:

Bidder Disclosure

Several tracts available for bid in the sale are the subject of ongoing litigation in the U.S. District Court for the District of Alaska. Tract 29 covers the Staines-Canning River area along the northwestern boundary of the Arctic Refuge, which the State of Alaska claims an entitlement to under the Alaska Statehood Act in State of Alaska v. U.S. Department of the Interior, et al. (Case No. 3:22-cv-00078-SLG). Tracts 16, 17, 24, 26, 27, 30 and 31 were leased to the Alaska Industrial Development and Export Authority (AIDEA) in January 2021, but those leases were subsequently cancelled by the U.S. Department of the Interior in September 2023 due to pre-leasing legal defects. AIDEA challenges those cancellations and seeks reinstatement of the leases in Alaska Industrial Development and Export Authority v. United States Department of the Interior (Case No. 3:24-cv-00051-SLG). In the event that one or more of these cases results in a decision adverse to the Department and a remedy that changes the status quo, a court or the Department may ultimately determine the validity of any lease issued in this sale to the extent it is for a disputed tract.

The 2025 Coastal Plain Oil and Gas Lease Sale will include 12 tracts (approximately 400,000 acres) that are available for leasing under the Coastal Plain Environmental Impact Statement Record of Decision issued in December 2024.

The opening and reading of the bids for the 2025 lease sale will be available for online public viewing via video livestreaming at https://www.blm.gov/live.

The Detailed Statement of Sale includes a description of the areas the BLM is offering for lease, as well as the lease terms, conditions, special stipulations, required operating procedures, and directions for how to submit bids. If you plan to submit a bid(s), please note that all bids must be sealed in accordance with the provisions identified in the Detailed Statement of Sale.

The United States reserves the right to withdraw any tract from this sale prior to issuance of a written acceptance of a bid.

Authority: Section 20001 of the Tax Cuts and Jobs Act of 2017 (Pub. L. 115-97); 43 CFR 3131.4-1.

Steven M. Cohn,
State Director, Alaska.

[FR Doc. 2024-28989 Filed 12-9-24; 8:45 am]

BILLING CODE 4310-JA-P